DEPARTMENT OF ENERGY

Federal Energy Regulatory Commission

Combined Notice of Filings

Take notice that the Commission has received the following Natural Gas Pipeline Rate and Refund Report filings:

Filings Instituting Proceedings

Docket Number: PR19-69-000.

Applicants: Cypress Gas Pipeline, LLC.

Description: Tariff filing per 284.123(e)+(g)/: Notice of Cancellation to be effective 10/1/2019.

Filed Date: 8/2/19.

Accession Number: 201908025032.

Comments Due: 5 p.m. ET 8/23/19.

284.123(g) Protests Due: 5 p.m. ET 9/30/19.

Docket Numbers: RP19-343-000.

Applicants: Texas Eastern Transmission, LP.

Description: Report Filing: TETLP Refund Report—RP19-343-000.

Filed Date: 7/19/19.

Accession Number: 20190719-5000.

Comments Due: 5 p.m. ET 8/7/19.

Docket Numbers: RP10-996-000.

Applicants: Dominion Cove Point LNG, LP.

Description: Report Filing: DECP—2019 Report of Operational Sales and Purchases of Gas.

Filed Date: 7/31/19.

Accession Number: 20190731-5148.

Comments Due: 5 p.m. ET 8/12/19.

Docket Numbers: RP19-1432-000.

Applicants: Golden Pass Pipeline LLC.

Description: § 4(d) Rate Filing: GPPL Tariff Clean up 2019 07 to be effective 9/1/2019.

Filed Date: 8/1/19.

Accession Number: 20190801-5000.

Comments Due: 5 p.m. ET 8/13/19.

Docket Numbers: RP19-1433-000.

Applicants: Texas Eastern Transmission, LP.

Description: § 4(d) Rate Filing: Negotiated Rate—MC Global to Cima Energy 8958810 to be effective 8/1/2019.

Filed Date: 8/1/19.

Accession Number: 20190801-5001.

Comments Due: 5 p.m. ET 8/13/19.

Docket Numbers: RP19-1434-000.

Applicants: Equitrans, L.P.

Description: § 4(d) Rate Filing: Negotiated Capacity Release Agreements—8/1/2019 to be effective 8/1/2019.

Filed Date: 8/1/19.

Accession Number: 20190801-5041.

Comments Due: 5 p.m. ET 8/13/19.

Docket Numbers: RP19-1435-000.

Applicants: Florida Gas Transmission Company, LLC.

Description: § 4(d) Rate Filing: Reticulated Area and Definition to be effective 9/1/2019.

Filed Date: 8/1/19.

Accession Number: 20190801-5048.

Comments Due: 5 p.m. ET 8/13/19.

Docket Numbers: RP19-1436-000.

Applicants: Gulf South Pipeline Company, LP.

Description: § 4(d) Rate Filing: Cap Rel Neg Rate Agmt (Osaka 46429 to Spotlight 51422) to be effective 8/1/2019.

Filed Date: 8/1/19.

Accession Number: 20190801-5078.

Comments Due: 5 p.m. ET 8/13/19.

Docket Numbers: RP19-1437-000.

Applicants: Gulf South Pipeline Company, LP.

Description: § 4(d) Rate Filing: Cap Rel Neg Rate Agmt (Constellation 51333 to Exelon 51418) to be effective 8/1/2019.

Filed Date: 8/1/19.

Accession Number: 20190801-5079.

Comments Due: 5 p.m. ET 8/13/19.

Docket Numbers: RP19-1438-000.

Applicants: RH energytrans, LLC.

Description: Compliance filing RH energytrans, LLC—Filing of Negotiated Rate Agrmt, Dkt No CP18-6 Compliance to be effective 9/1/2019.

Filed Date: 8/1/19.

Accession Number: 20190801-5089.

Comments Due: 5 p.m. ET 8/13/19.

Docket Numbers: RP19-1439-000.

Applicants: Columbia Gas Transmission, LLC.

Description: § 4(d) Rate Filing: TCO Citadel Neg Rate Agreement Filing to be effective 8/1/2019.

Filed Date: 8/1/19.

Accession Number: 20190801-5097.

Comments Due: 5 p.m. ET 8/13/19.

Docket Numbers: RP19-1440-000.

Applicants: Columbia Gulf Transmission, LLC.

Description: § 4(d) Rate Filing: CGT Citadel Negotiated Rate Agreement to be effective 8/1/2019.

Filed Date: 8/1/19.

Accession Number: 20190801-5098.

Comments Due: 5 p.m. ET 8/13/19.

Docket Numbers: RP19-1441-000.

Applicants: Columbia Gas Transmission, LLC.

Description: § 4(d) Rate Filing: TCO Essential Power Neg Rate Amendment to be effective 8/1/2019.

Filed Date: 8/1/19.

Accession Number: 20190801-5099.

Comments Due: 5 p.m. ET 8/13/19.

Docket Numbers: RP19-1442-000.

Applicants: ANR Pipeline Company.

Description: § 4(d) Rate Filing: ANR Exelon Negotiated Rate Amendments to be effective 8/1/2019.

Filed Date: 8/1/19.

Accession Number: 20190801-5100.

Comments Due: 5 p.m. ET 8/13/19.

Docket Numbers: RP19-1443-000.

Applicants: Kern River Gas Transmission Company.

Description: § 4(d) Rate Filing: 2019 Housekeeping Original Volume 1A to be effective 9/1/2019.

Filed Date: 8/1/19.

Accession Number: 20190801-5104.

Comments Due: 5 p.m. ET 8/13/19.

Docket Numbers: RP19-1444-000.

Applicants: Texas Gas Transmission, LLC.

Description: § 4(d) Rate Filing: Permanent Release CNE 35007 to Exelon 38117 to be effective 8/1/2019.

Filed Date: 8/1/19.

Accession Number: 20190801-5105.

Comments Due: 5 p.m. ET 8/13/19.

Docket Numbers: RP19-1445-000.

Applicants: Rockies Express Pipeline LLC.

Description: § 4(d) Rate Filing: Neg Rate 2019-08-01 Encana to be effective 8/1/2019.

Filed Date: 8/1/19.

Accession Number: 20190801-5107.

Comments Due: 5 p.m. ET 8/13/19.

Docket Numbers: RP19-1446-000.

Applicants: Equitrans, L.P.

Description: § 4(d) Rate Filing: Negotiated Rate Service Agreement—Revised Peoples EFT Agreement to be effective 8/1/2019.

Filed Date: 8/1/19.

Accession Number: 20190801-5110.

Comments Due: 5 p.m. ET 8/13/19.

Docket Numbers: RP19-1447-000.

Applicants: Enable Gas Transmission, LLC.

Description: § 4(d) Rate Filing: Negotiated Rate Filing—August 2019 to be effective 8/1/2019.

Filed Date: 8/1/19.

Accession Number: 20190801-5122.

Comments Due: 5 p.m. ET 8/13/19.

Docket Numbers: RP19-1448-000.

Applicants: Dominion Energy Transmission, Inc.

Description: § 4(d) Rate Filing: DETI—August 1, 2019 Nonconforming Service Agreements to be effective 9/1/2019.

Filed Date: 8/1/19.

Accession Number: 20190801-5126.

Comments Due: 5 p.m. ET 8/13/19.

Docket Numbers: RP19-1449-000.

Applicants: Colorado Interstate Gas Company, L.L.C.

Description: § 4(d) Rate Filing: Non Conforming Negotiated Rate Agreement Filing (RMM) to be effective 9/1/2019.

Filed Date: 8/1/19.

Accession Number: 20190801-5127.

Comments Due: 5 p.m. ET 8/13/19.

Docket Numbers: RP19-1450-000.

Applicants: Dominion Energy Cove Point LNG, LP.

Description: § 4(d) Rate Filing: DECP—Eastern Market Access Project (CP17-15) to be effective 9/1/2019.

Filed Date: 8/1/19.

Accession Number: 20190801-5141.

Comments Due: 5 p.m. ET 8/13/19.

Docket Numbers: RP19-1451-000.

Applicants: Equitrans, L.P.

Description: § 4(d) Rate Filing: Negotiated Retainage Updates to be effective 9/1/2019.

Filed Date: 8/1/19.

Accession Number: 20190801-5149.

Comments Due: 5 p.m. ET 8/13/19.

Docket Numbers: RP19-445-000.

Applicants: Iroquois Gas Transmission System, L.P.

Description: Report Filing: 080119 Refund Report, RP19-445 Settlement.

Filed Date: 8/1/19.

Accession Number: 20190801-5080.

Comments Due: 5 p.m. ET 8/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2019.
Kimberly D. Bose,
Secretary.

[FR Doc. 2019-17043 Filed 8-8-19; 8:45 am]

BILLING CODE 6717-01-P